FEDERAL ELECTION COMMISSION

11 CFR Part 111

[Notice 2009-13]

Civil Monetary Penalties Inflation Adjustments; Correction

AGENCY: Federal Election Commission.

ACTION: Final rules; correction.

SUMMARY: The Federal Election Commission published in the Federal Register on July 1, 2009, a document concerning the application of inflation adjustments to certain civil monetary penalties under the Federal Election Campaign Act of 1971, as amended, the Presidential Election Campaign Fund Act, and the Presidential Primary Matching Payment Account Act. The Commission inadvertently entered the signature date on the document as March 25, 2009. This document removes that signature date and inserts the correct date, which is June 25, 2009. The Commission is also correcting two typographical errors.

DATES: Effective Date: This correction is effective on July 28, 2009.

FOR FURTHER INFORMATION CONTACT: Mr. Robert M. Knop, Assistant General Counsel, or Ms. Cheryl A.F. Hemsley, or Ms. Jessica Selinkoff, Attorneys, 999 E Street, NW., Washington, DC 20463, (202) 694-1650 or (800) 424-9530.

SUPPLEMENTARY INFORMATION: The Federal Election Commission published final rules adjusting certain civil monetary penalties for inflation in the Federal Register on July 1, 2009 (74 FR 31345) (Notice 2009-09), which inadvertently included an incorrect issuance date. This correction removes that date and inserts the correct date of issuance by the Commission. The Commission is also rectifying two typographical errors found in this document since the publication date.

In Notice 2009-09, published on July 1, 2009 (74 FR 31345), make the following correction.

1. On page 31349, in the third column, replace the date “March 25, 2009” which appears after the word “Dated,” with “June 25, 2009.”

List of Subjects in 1 CFR Part 111

Administrative practice and procedures, Elections, Law enforcement, Penalties.

In addition, the FEC makes the following correcting amendments to 11 CFR part 111:

PART 111—COMPLIANCE PROCEDURE (2 U.S.C. 437g, 437d(a))

1. The authority citation for part 111 continues to read as follows:

Authority: 2 U.S.C. 432(i), 437g, 437d(a), 438(a)(8); 28 U.S.C. 2461 nt.

§ 111.43 [Corrected]

2. Section 111.43 is corrected—

A. In the table in paragraph (a), in the first column, in the second row from the bottom, by removing the figures “$8,50,000-949,999.99” and adding in their place the figures “$850,000-949,999.99”; and

B. In paragraph (c) by removing the figure “$6,500” and adding in its place the figure “$6,050”.

On behalf of the Commission.
Dated: July 22, 2009.
Steven T. Walther,
Chairman, Federal Election Commission.

[FR Doc. E9-17870 Filed 7-27-09; 8:45 am]

BILLING CODE 6715-01-P